DEPARTMENT OF LABOR

Occupational Safety and Health Administration

[Docket No. OSHA-2009-0019]

Addenda to the Memorandum of Understanding: To Formalize the Working Relationship Between the Department of Energy and the Department of Labor (August 28, 1992)

AGENCY: The Department of Labor, Occupational Safety and Health Administration (OSHA).

ACTION: Addenda to Memorandum of Understanding between the Department of Labor and the Department of Energy: the transfer of two existing buildings and two other parcels of land located at the East Tennessee Technology Park in Oak Ridge, Tennessee; transfer of employee safety and health authority from the Department of Energy (DOE) to the Tennessee Occupational Safety and Health Administration (TOSHA).

SUMMARY: This document is a notice of addenda to the 1992 interagency Memorandum of Understanding (MOU) between the U.S. Department of Labor and the U.S. Department of Energy. That MOU states that DOE has exclusive authority over the occupational safety and health of contractor employees at DOE Government-Owned and Contractor-Operated facilities (GOCOs). In addition, the MOU between the departments dated July 25, 2000, on safety and health enforcement at privatized facilities and operations, provides that OSHA has regulatory authority over occupational safety and health at certain privatized facilities and operations on land formerly under the control of DOE. This action is taken in accordance with the July 25, 2000 MOU, which establishes specific interagency procedures for the transfer of occupational safety and health coverage for such privatized facilities and operations from DOE to OSHA and state agencies acting under state plans approved by OSHA pursuant to section 18 of the Occupational Safety and Health Act of 1970 (OSH Act), 29 U.S.C. 667. The MOUs may be found on the internet via the OSHA Web page http://www.osha.gov under the “D” for Department of Energy Transition Activities.

DATES: Effective Date: The effective date of the Addenda to the Memorandum of Understanding is August 10, 2009.

FOR FURTHER INFORMATION CONTACT: MaryAnn Garrahan, Director, Office of Technical Programs and Coordination Activities, Directorate of Technical Support and Emergency Management, U.S. Department of Labor, Occupational Safety and Health Administration, Room N-3655, 200 Constitution Avenue, NW., Washington, DC 20210; telephone (202) 693-2110. Access electronic copies of this notice at OSHA's Web site: http://www.osha.gov.

SUPPLEMENTARY INFORMATION: The U.S. Department of Energy (DOE) and the Occupational Safety and Health Administration (OSHA) of the U.S. Department of Labor entered into a MOU on August 10, 1992, delineating regulatory authority over the occupational safety and health of contractor employees at DOE government-owned or leased, contractor-operated (GOCO) facilities. In general, the MOU recognizes that DOE exercises statutory authority under section 161(f) of the Atomic Energy Act of 1954, as amended, [42 U.S.C. 2201(f)], relating to the occupational safety and health of private-sector employees at these facilities.

Section 4(b)(1) of the OSH Act of 1970, 29 U.S.C. 653(b)(1), exempts from OSHA authority working conditions with respect to which other federal agencies have exercised statutory authority to prescribe or enforce standards or regulations affecting occupational safety or health. The 1992 MOU acknowledges DOE's extensive program for the regulation of contractor health and safety, which requires contractor compliance with all OSHA standards as well as additional requirements prescribed by DOE, and concludes with an agreement by the agencies that the provisions of the OSH Act will not apply to GOCO sites for which DOE has exercised its authority to regulate occupational safety and health under the Atomic Energy Act.

In light of DOE's policy emphasis on privatization activities, OSHA and DOE entered into a second MOU on July 25, 2000 that establishes interagency procedures to address regulatory authority for occupational safety and health at specified privatized facilities and operations on sites formerly controlled by DOE. The 2000 MOU covers facilities and operations on lands no longer controlled by DOE, which are not conducting activities for or on behalf of DOE and where there is no likelihood that any employee exposure to radiation from DOE sources would be 25 millirems per year (mrem/yr) or more.

In a letter dated April 9, 2009, DOE requested that OSHA or, as appropriate, TOSHA accept occupational safety and health regulatory authority over employees at the East Tennessee Technology Park at two existing buildings known as K-1652, a fire station owned and operated by the City of Oak Ridge, Tennessee, and K-1515, the water treatment plant owned and operated by the city, as well as two other parcels of land known as ED-5 East and ED-7, transferred to the Community Reuse Organization of East Tennessee (CROET), pursuant to the MOU on Safety and Health Enforcement at Privatized Facilities and Operations dated July 25, 2000.

OSHA's Regional Office in Atlanta, Georgia, working with the OSHA Nashville Area Office, and the TOSHA, determined that TOSHA is willing to accept authority over the occupational safety and health of employees at the two existing buildings and the two other parcels of land at the East Tennessee Technology Park in Oak Ridge, Tennessee that were transferred by deed to the City of Oak Ridge and CROET, respectively. In a letter from OSHA to DOE dated May 13, 2009, OSHA stated that TOSHA is satisfied with DOE assurances that (1) there is no likelihood that any employee at these facilities will be exposed to radiation levels that will be 25 millirems per year (mrem/yr) or more, and (2) transfer of authority to TOSHA is free from regulatory gaps, and does not diminish the safety and health protection of the employees. According to this letter, TOSHA therefore accepted and maintains health and safety regulatory authority over employees at buildings K-165 (fire station) and K-1515 (water treatment plant), as well as parcels ED-5 East and ED-7.

Authority and Signature

Jordan Barab, Acting Assistant Secretary of Labor for Occupational Safety and Health, U.S. Department of Labor, 200 Constitution Avenue, NW., Washington, DC 20210, directed the preparation of this notice. This Federal Register notice provides public notice and serves as an addendum to the 1992 OSHA/DOE MOU. This action is taken pursuant to section 8(g) of the Occupational Safety and Health Act of 1970 (29 U.S.C. 657(g)) and Secretary of Labor's Order No. 5-2007 (72 FR 31159).

Signed at Washington, DC, on August 4, 2009.
Jordan Barab,
Acting Assistant Secretary for Occupational Safety and Health.

[FR Doc. E9-19070 Filed 8-7-09; 8:45 am]

BILLING CODE 4510-26-P